DEPARTMENT OF COMMERCE

International Trade Administration

[C-570-177]

Certain Low Speed Personal Transportation Vehicles From the People's Republic of China: Amended Preliminary Determination of Countervailing Duty Investigation

AGENCY: Enforcement and Compliance, International Trade Administration, Department of Commerce.

SUMMARY: The U.S. Department of Commerce (Commerce) is amending the preliminarily affirmative countervailing duty (CVD) determination on certain low speed personal transportation vehicles (LSPTVs) from the People's Republic of China (China) to correct significant ministerial errors.

DATES: Applicable February 19, 2025.

FOR FURTHER INFORMATION CONTACT: Dan Alexander, AD/CVD Operations, Office VII, Enforcement and Compliance, International Trade Administration, U.S. Department of Commerce, 1401 Constitution Avenue NW, Washington, DC 20230; telephone: (202) 482-4313.

SUPPLEMENTARY INFORMATION:

Background

In accordance with section 703(b) of the Tariff Act of 1930, as amended (the Act), and 19 CFR 351.205(b), on December 6, 2024, Commerce published its preliminary affirmative determination in the CVD investigation of LSPTVs from China.¹ On December 16, 2024, we received timely ministerial error allegations from the American Personal Transportation Vehicle Manufacturers Coalition (the petitioner) that Commerce made a significant ministerial error in the Preliminary Determination with respect to the subsidy rate calculated for Xiamen Dalle New Energy Automobile Co., Ltd. (Xiamen Dalle). The petitioner also submitted ministerial error allegations regarding the subsidy rate calculated for Guangdong Lvtong New Energy Electric Vehicle Technology Co., Ltd. (Lvtong).² Because the errors alleged by the petitioner regarding Lvtong's calculated subsidy rate are not considered significant (i.e., do not satisfy the requirements of 19 CFR 351.224(g)(1)), Commerce will address those errors with which it agrees in the final determination. On December 26, 2024, Xiamen Dalle submitted ministerial error rebuttal comments, which were rejected and removed from the record by Commerce on January 23, 2025.³

¹ See Certain Low Speed Personal Transportation Vehicles from the People's Republic of China: Preliminary Affirmative Countervailing Duty Determination, Preliminary Affirmative Determination of Critical Circumstances, in Part, and Alignment of Final Determination with Final Antidumping Duty Determination, 89 FR 96942 (December 6, 2024) (Preliminary Determination), and accompanying Preliminary Decision Memorandum.

² See Petitioner's Letter, “Ministerial Error Allegations,” dated December 16, 2024.

³ See Commerce's Letter, “Rejection of Xiamen Dalle New Energy Automobile Co., Ltd.'s Submission,” dated January 23, 2025; and Memorandum, “Reject and Remove December 26, 2024 Rebuttal to Ministerial Error Allegations,” dated January 23, 2025.

Period of Investigation

The period of investigation (POI) is January 1, 2023, through December 31, 2023.

Scope of the Investigation

The products covered by this investigation are LSPTVs from China. For a complete description of the scope of this investigation, see the Preliminary Determination.

Analysis of Significant Ministerial Error Allegations

According to 19 CFR 351.224(e), Commerce will analyze any comments received and, if appropriate, correct any significant ministerial error by amending the preliminary determination. A ministerial error is defined in 19 CFR 351.224(f) as “an error in addition, subtraction, or other arithmetic function, clerical error resulting from inaccurate copying, duplication, or the like, and any other similar type of unintentional error which the Secretary considers ministerial.” ⁴ A significant ministerial error is defined as a ministerial error, the correction of which, singly or in combination with other errors, would result in: (1) a change of at least five absolute percentage points in, but not less than 25 percent of, the CVD rate calculated in the original preliminary determination; or (2) a difference between a CVD rate of zero (or de minimis) and a CVD rate greater than de minimis, or vice versa.⁵

⁴ See section 705(e) of the Act.

⁵ See 19 CFR 351.224(g).

Amended Preliminary Determination

In the Preliminary Determination, Commerce made a significant ministerial error within the meaning of section 705(e) of the Act and 19 CFR 351.224(f) and (g)(1) in calculating the countervailable subsidy rate for Xiamen Dalle. Consistent with 19 CFR 351.224(e), Commerce is amending the Preliminary Determination to reflect the correction of this significant ministerial error. Commerce also made other ministerial errors, within the meaning of 19 CFR 351.224(f), in the calculation of the countervailable subsidy rate for Xiamen Dalle. These errors, in and of themselves, are not significant within the meaning of 19 CFR 351.224(g). However, because correcting for these errors in combination with the other significant ministerial error alleged by the petitioner satisfies the requirements of 19 CFR 351.224(g)(1), we are also correcting for these errors by amending the Preliminary Determination, consistent with 19 CFR 351.224(e). In correcting for these errors by amending the Preliminary Determination, consistent with 19 CFR 351.224(e), we are revising the calculations with regard to Xiamen Dalle's subsidy rate and the all-others rate.

For a complete discussion of ministerial errors, see the Preliminary Ministerial Error Memorandum.⁶

⁶ See Memorandum, “Countervailing Duty Investigation of Certain Low-Speed Personal Transportation Vehicles from the People's Republic of China: Analysis of Ministerial Errors in the Preliminary Determination,” dated concurrently with this notice (Preliminary Ministerial Error Memorandum).

Amended Preliminary Determination

As a result of correcting the ministerial errors described above, we determine the following amended preliminary net countervailable subsidy rates for Xiamen Dalle and all other producers/exporters:

Company | Subsidy rate (percent ad valorem)
Guangdong Lvtong New Energy Electric Vehicle Technology Co., Ltd | 22.84
Hebei Machinery Import and Export Co., LTD | * 515.37
Shandong Odes Industry Co. Ltd | * 515.37
Xiamen Dalle New Energy Automobile Co., Ltd | 33.21
All Others | 28.16
* Rate based on facts available with adverse inferences.

Disclosure

Commerce intends to disclose the calculations and analysis performed to interested parties for this amended preliminary determination within five days after public announcement or, if there is no public announcement, within five days after the date of publication of this notice in the Federal Register, in accordance with 19 CFR 351.224.

Amended Cash Deposits and Suspension of Liquidation

The collection of cash deposits and suspension of liquidation will be established according to the rates calculated in this amended preliminary determination. Because the amended rates for Xiamen Dalle and all-others result in increased cash deposits, they will be effective on the date of the publication of this notice in the Federal Register. Parties will be notified of this determination, in accordance with section 703(d) and (f) of the Act.

U.S. International Trade Commission (ITC) Notification

In accordance with section 703(f) of the Act, we will notify the ITC of our amended preliminary determination.

Notification to Interested Parties

This notice is issued and published pursuant to sections 703(f) and 777(i) of the Act, and 19 CFR 351.224(e).

Dated: February 12, 2025.
Christopher Abbott,
Deputy Assistant Secretary for Policy and Negotiations, performing the non-exclusive functions and duties of the Assistant Secretary for Enforcement and Compliance.

[FR Doc. 2025-02798 Filed 2-18-25; 8:45 am]

BILLING CODE 3510-DS-P